DEPARTMENT OF VETERANS AFFAIRS

Health Services Research and Development Service Merit Review Board; Notice of Meeting

The Department of Veterans Affairs (VA) gives notice under Public Law 92-463, Federal Advisory Committee Act, that a meeting of the Health Services Research and Development Service Merit Review Board will be held March 15-17, 2005, at the Crowne Plaza River Walk Hotel, 111 Pecan Street East, San Antonio, TX 78205. On March 15, 2005, the Nursing Research Initiative (NRI), Chronic Diseases, and Equity review subcommittees will meet from 8 a.m. to 5 p.m.; the general orientation session for all reviewers will be conducted from 7 p.m. to 9 p.m. On March 16 and 17, 2005, the Implementation and Management, Quality Measurement and Effectiveness, Research Methodology, and Special Populations subcommittees will convene from 8 a.m. to 5 p.m. both days.

The purpose of the Board is to review research and development applications concerned with the measurement and evaluation of health care services and with testing new methods of health care delivery and management, and nursing research. Applications are reviewed for scientific and technical merit. Recommendations regarding funding are prepared for the Chief Research and Development Officer.

On March 15, the meeting will be open to the public for approximately one half-hour from 7 p.m. until 7:30 p.m. to cover administrative matters and to discuss the general status of the program. The remaining portion of the meeting on March 15-17 will be closed. The closed portion of the meeting involves discussion, examination, reference to, and oral review of staff and consultant critiques of research protocols and similar documents.

During this portion of the meeting, discussion and recommendations will include qualifications of the personnel conducting the studies (the disclosure of which would constitute a clearly unwarranted invasion of personal privacy), as well as research information (the premature disclosure of which would be likely to compromise significantly the implementation of proposed agency action regarding such research projects). As provided by subsection 10(d) of Public Law 92-463, as amended by Public Law 94-409, closing portions of these meetings is in accordance with 5 U.S.C. 552b(c)(6) and (9)(B).

Those who plant to attend the open session should contact the Assistant Director, Scientific Review (124S), Health Services Research and Development Service, Department of Veterans Affairs, 1722 Eye Street, NW., Washington, DC, at least five days before the meeting. For further information, call (202) 254-0207.

Dated: January 25, 2005.
By Direction of the Secretary.
E. Philip Riggin,
Committee Management Officer.

[FR Doc. 05-2908 Filed 2-14-05; 8:45 am]

BILLING CODE 8320-01-M